DEPARTMENT OF TRANSPORTATION

Federal Railroad Administration

49 CFR Part 234

Grade Crossing Signal System

CFR Correction

In Title 49 of the Code of Federal Regulations, parts 200 to 299, revised as of October 1, 2005, in part 234, on page 569, the first “Authority” is removed.

[FR Doc. 06-55514 Filed 4-12-06; 8:45 am]

BILLING CODE 1505-01-D